DEPARTMENT OF AGRICULTURE

Natural Resources Conservation Service

Notice of Availability of a Finding of No Significant Impact (FONSI)

AGENCY: Natural Resources Conservation Service, USDA.

ACTION: Notice of availability of a Finding of No Significant Impact for a project on the South Slough Estuarine Research Reserve for review and comment.

SUMMARY: The NRCS has issued a Finding of No Significant Impact (FONSI) for a stream restoration project on the South Slough National Estuarine Research Reserve. A copy of the FONSI and the final Environmental Assessment (EA) is available for public review at the following locations:

• NRCS Office, 382 North Central, Coquille, OR 97423

• Coquille Public Library, Coquille, OR 97423

• Coos County Courthouse, 250 North Baxter, Coquille, OR 97423

• South Slough National Estuarine Research Reserve, Estuarine and Coastal Science Laboratory, Post Office Box 5417, Charleston, Oregon 97420.

• Coos Bay public library, 525 Anderson, Coos Bay, OR 97420

• North Bend public library, 1800 Sherman, North Bend, OR 97459

• Additional copies may be obtained by contacting Tom Purvis, NRCS, 541-396-2841.

DATES: Comments will be received for a 30-day period commencing with this date of publication.

ADDRESSES: Address all requests and comments to Tom Purvis, District Conservationist, Natural Resources Conservation Service (NRCS), 382 North Central, Coquille, OR 97423; (541) 396-5106 (FAX).

FOR FURTHER INFORMATION CONTACT: Tom Purvis, (541) 396-2841.

Dated: April 18, 2002.
C. R. Vigil, Jr.,
Acting State Conservationist, Portland, OR.

[FR Doc. 02-10535 Filed 4-29-02; 8:45 am]

BILLING CODE 3410-16-P